DEPARTMENT OF JUSTICE

[1140-0019]

Agency Information Collection Activities; Proposed eCollection eComments Requested; Revision of a Previously Approved Collection Federal Firearms License (FFL) RENEWAL Application—ATF Form 8 (5310.11) Part II

AGENCY: Bureau of Alcohol, Tobacco, Firearms and Explosives, Department of Justice.

ACTION: 60-day notice.

SUMMARY: The Department of Justice (DOJ), The Bureau of Alcohol, Tobacco, Firearms and Explosives (ATF), will be submitting the following information collection request to the Office of Management and Budget (OMB) for review and approval in accordance with the Paperwork Reduction Act of 1995.

DATES: Comments are encouraged and will be accepted for 60 days until December 9, 2024.

FOR FURTHER INFORMATION CONTACT: If you have additional comments especially on the estimated public burden or associated response time, suggestions, or need a copy of the proposed information collection instrument with instructions or additional information, contact: Leslie Anderson, ATF-FFLC, either by mail at 244 Needy Rd, Martinsburg, WV 25405, by email at Leslie.anderson@atf.gov, or telephone at 304-616-4634.

SUPPLEMENTARY INFORMATION: Written comments and suggestions from the public and affected agencies concerning the proposed collection of information are encouraged. Your comments should address one or more of the following four points:

—Evaluate whether the proposed collection of information is necessary for the proper performance of the functions of the Bureau of Justice Statistics, including whether the information will have practical utility;

—Evaluate the accuracy of the agency's estimate of the burden of the proposed collection of information, including the validity of the methodology and assumptions used;

—Evaluate whether and if so how the quality, utility, and clarity of the information to be collected can be enhanced; and

—Minimize the burden of the collection of information on those who are to respond, including through the use of appropriate automated, electronic, mechanical, or other technological collection techniques or other forms of information technology, e.g., permitting electronic submission of responses.

Abstract: Section 923 of Chapter 44 of Title 18 requires persons wishing to be licensed to renew their license every three years. In order to renew their license, licensees must complete ATF Form 8 (5310.11) Part II to certify compliance with the provisions of the law for the FFL business. Information Collection (IC) OMB is being revised to include major material changes to the form, such as removal and addition of section items, grammatical changes (sentence rephrasing/statement modification) and instruction modification and clarification.

Overview of This Information Collection

1. Type of Information Collection: Revision of a previously approved collection.

2. The Title of the Form/Collection: Federal Firearms License (FFL) RENEWAL Application.

3. The agency form number, if any, and the applicable component of the Department sponsoring the collection: Form number: ATF Form 8 (5310.11) Part II.

Component: Bureau of Alcohol, Tobacco, Firearms and Explosives, U.S. Department of Justice.

4. Affected public who will be asked or required to respond, as well as the obligation to respond: Affected Public: Individuals or households, Private Sector-for or not for profit institutions. The obligation to respond is mandatory per Title 18 U.S.C., Chapter 44.

5. An estimate of the total number of respondents and the amount of time estimated for an average respondent to respond: An estimated 33,500 respondents will respond to this collection once annually, and it will take each respondent approximately 30 minutes to complete their responses.

6. An estimate of the total annual burden (in hours) associated with the collection: The estimated annual public burden associated with this collection is 16,750 total hours, which is equal to 33,500 (total respondents) * 1 (# of response per respondent) * 0.5 (30 minutes).

7. An estimate of the total annual cost burden associated with the collection, if applicable: No new cost is associated with this collection. However, the annual cost has increased due to a change in the postal rate from $0.63 during the last renewal in 2023, to $0.73 in 2024. Consequently, the new public cost burden will be reported as $24,455.00, which is equal to .73 (mailing cost per respondent) * 33,500 (# of respondents).

Total Burden Hours
Activity | Number of respondents | Frequency | Total annual responses | Time per response | Total annual burden (hours)
ATF Form 8 (530.11) Part II | 33,500 per Year | 1 time per every 3 years | 33,500 | 30 min | 16,750
Unduplicated Totals | 33,500 per Year | 1 time per every 3 years | 33,500 | 30 min | 16,750

If additional information is required contact: Darwin Arceo, Department Clearance Officer, United States Department of Justice, Justice Management Division, Policy and Planning Staff, Two Constitution Square, 145 N Street NE, 4W-218, Washington, DC.

Dated: October 2, 2024.
Darwin Arceo,
Department Clearance Officer for PRA, U.S. Department of Justice.

[FR Doc. 2024-23160 Filed 10-7-24; 8:45 am]

BILLING CODE 4410-FY-P